DEPARTMENT OF ENERGY

Federal Energy Regulatory Commission

[Project No. 2266-102]

Nevada Irrigation District; Notice of Extension of Time for Filing of Motions To Intervene and Protests, Comments, Recommendations, Preliminary Terms and Conditions, Preliminary Fishway Prescriptions, Response Comments, and Final License Application Amendments

As stated in a letter dated February 24, 2012, in this proceeding by the Director, Division of Hydropower Licensing, the date for filing of motions to intervene and protests, comments, recommendations, preliminary terms and conditions, and preliminary fishway prescriptions, established by the Commission's notice issued on January 19, 2012,¹ for the Yuba-Bear Hydroelectric Project No. 2266-102, has been extended to July 31, 2012, with response comments due by September 14, 2012. The filing of final license application amendments has been extended to June 18, 2012.

¹ Notice of Application Accepted for Filing, Soliciting Motions to Intervene and Protests, Ready for Environmental Analysis, and Soliciting Comments, Recommendations, Preliminary Terms and Conditions, and Preliminary Fishway Prescriptions.

Dated: February 28, 2012.
Kimberly D. Bose,
Secretary.

[FR Doc. 2012-5538 Filed 3-6-12; 8:45 am]

BILLING CODE 6717-01-P